DEPARTMENT OF HOMELAND SECURITY

Federal Emergency Management Agency

44 CFR Part 67

[Docket ID FEMA-2010-0003; Internal Agency Docket No. FEMA-B-1142]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 3, 2011.

ADDRESSES: The corresponding preliminary Flood Insurance Rate Map (FIRM) for the proposed BFEs for each community is available for inspection at the community's map repository. The respective addresses are listed in the table below.

You may submit comments, identified by Docket No. FEMA-B-1142, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
St. Clair County, Alabama, and Incorporated Areas
Big Black Creek | Approximately 1.9 mile downstream of Whites Chapel Parkway | None | +581 | City of Trussville, Town of Argo, Town of Margaret, Town of Moody, Unincorporated Areas of St. Clair County.
| Approximately 3.1 miles upstream of County Road 6 | None | +648
Dye Creek | At Golf Course Road | None | +480 | City of Pell City, Unincorporated Areas of St. Clair County.
| Approximately 0.8 mile upstream of 16th Street | None | +591
Kelly Creek | Approximately 0.4 mile upstream of the Shelby County boundary | None | +466 | Town of Moody, Unincorporated Areas of St. Clair County.
| Approximately 0.6 mile upstream of State Route 174 | None | +764
Kerr Branch | Approximately 0.5 mile downstream of Kelly Creek Road | +676 | +685 | Town of Moody.
| Approximately 0.3 mile upstream of Kelly Creek Road | None | +695
Little Black Creek | Approximately 110 feet downstream of Acmor Road | None | +594 | Town of Margaret, Town of Moody, Unincorporated Areas of St. Clair County.
| Approximately 2.5 miles upstream of the railroad | None | +860
Middle Black Creek | Approximately 1.0 mile downstream of the railroad bridge | None | +601 | Town of Argo, Town of Margaret, Town of Odenville, Unincorporated Areas of St. Clair County.
| Approximately 3.8 miles upstream of County Road 6 | None | +727
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Pell City
Maps are available for inspection at 1905 1st Avenue North, Pell City, AL 35125.
City of Trussville
Maps are available for inspection at 131 Main Street, Trussville, AL 35173.
Town of Argo
Maps are available for inspection at 8885 Gadsden Highway, Argo, AL 35173.
Town of Margaret
Maps are available for inspection at 125 School Street, Margaret, AL 35112.
Town of Moody
Maps are available for inspection at 670 Park Avenue, Moody, AL 35004.
Town of Odenville
Maps are available for inspection at 183 Alabama Street, Odenville, AL 35120.
Unincorporated Areas of St. Clair County
Maps are available for inspection at 165 5th Avenue, Suite 100, Ashville, AL 35953.
Madison County, Missouri, and Incorporated Areas
Little Saint Francis River | Approximately 675 feet downstream of U.S. Route 67 | None | +689 | City of Fredericktown, Unincorporated Areas of Madison County.
| Approximately 1.3 mile downstream of County Road 220 | None | +743
Little Saint Francis River Tributary 1 | At the confluence with the Little Saint Francis River | +704 | +700 | City of Fredericktown, Unincorporated Areas of Madison County.
| Just downstream of County Road 218 | None | +769
Mill Creek (backwater effects from Little Saint Francis River) | From the confluence with the Little Saint Francis River to approximately 665 feet downstream of County Road 500 | None | +690 | Unincorporated Areas of Madison County.
Saline Creek | At the confluence with the Little Saint Francis River | +707 | +703 | Unincorporated Areas of Madison County.
| Approximately 550 feet downstream of the confluence with Goose Creek | None | +736
Spiva Branch (backwater effects from Little Saint Francis River) | From the confluence with the Little Saint Francis River to just upstream of County Road 201 | None | +692 | Unincorporated Areas of Madison County.
Tollar Branch | At the confluence with Saline Creek | +714 | +713 | City of Fredericktown, Unincorporated Areas of Madison County.
| Approximately 1,310 feet upstream of Mine LaMotte Street | None | +788
Village Creek | At the confluence with the Little Saint Francis River | +707 | +704 | City of Fredericktown, Unincorporated Areas of Madison County.
| Just upstream of Catherine Mine Road | +708 | +707
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Fredericktown
Maps are available for inspection at City Hall, 124 West Main Street, Fredericktown, MO 63645.
Unincorporated Areas of Madison County
Maps are available for inspection at the Madison County Courthouse, 1 Courthouse Square, Fredericktown, MO 63645.

(Catalog of Federal Domestic Assistance No. 97.022, “Flood Insurance.”)

Dated: September 13, 2010.
Sandra K. Knight,
Deputy Federal Insurance and Mitigation Administrator, Mitigation, Department of Homeland Security, Federal Emergency Management Agency.

[FR Doc. 2010-24866 Filed 10-4-10; 8:45 am]

BILLING CODE 9110-12-P